DEPARTMENT OF COMMERCE

National Oceanic and Atmospheric Administration

50 CFR Parts 223 and 224

[Docket No. 080110038-8248-01]

RIN 0648-XF03

Listing Endangered and Threatened Wildlife and Designating Critical Habitat; 90-day Finding for a Petition to Reclassify the Loggerhead Turtle in the Western North Atlantic Ocean

AGENCY: National Marine Fisheries Service (NMFS), National Oceanic and Atmospheric Administration (NOAA), Commerce.

ACTION: 90-day petition finding; request for information and comments.

SUMMARY: We, NMFS, announce the 90-day finding for a petition to reclassify loggerhead turtles (Caretta caretta) in the western North Atlantic Ocean as a Distinct Population Segment (DPS) with endangered status and designate critical habitat under the Endangered Species Act of 1973, as amended (ESA). The loggerhead is currently listed as threatened throughout its range. We find that the petition presents substantial scientific information indicating that the petitioned action may be warranted.

We have initiated a review of the status of the species to determine whether the petitioned action is warranted and to determine whether any additional changes to the current listing of the loggerhead turtle are warranted. To ensure a comprehensive review, we solicit information and comments pertaining to this species from any interested party.

DATES: Written comments and information related to this petition finding must be received [see ADDRESSES] by May 5, 2008.

ADDRESSES: You may submit comments, identified by “0648-XF03”, by any one of the following methods:

• Electronic submissions: Submit all electronic public comments via the Federal eRulemaking Portal: http://www.regulations.gov.

• Fax: 978-281-9394, Attention: Barbara Schroeder

• Mail: Information on paper, disk, or CD-ROM should be addressed to the Director of the Office of Protected Resources, NMFS, 1315 East-West Highway, Silver Spring, MD 20910.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, or Adobe PDF file formats only.

FOR FURTHER INFORMATION CONTACT: Barbara Schroeder by phone 301-713-2322, fax 301-427-2522, or e-mail barbara.schroeder@noaa.gov.

SUPPLEMENTARY INFORMATION:

Background

Section 4(b)(3)(A) of the ESA (16 U.S.C. 1531 et seq.) requires us to make a finding as to whether a petition to list, delist, or reclassify a species presents substantial scientific or commercial information indicating that the petitioned action may be warranted. Our implementing regulations (50 CFR 424.14) define “substantial information” as the amount of information that would lead a reasonable person to believe that the measure proposed in the petition may be warranted. In determining whether substantial information exists, we take into account several factors, including information submitted with, and referenced in, the petition and all other information readily available in our files. To the maximum extent practicable, this finding is to be made within 90 days of the receipt of the petition, and the finding is to be published promptly in the Federal Register. If we find that a petition presents substantial information indicating that the requested action may be warranted, we are also required to conduct a status review of the species. The determination of whether the petitioned action is warranted must be made within 1 year of the receipt of the petition.

Analysis of Petition

On November 16, 2007, we received a petition from Oceana and the Center for Biological Diversity requesting that loggerhead turtles in the western North Atlantic Ocean be reclassified as a DPS (see Petition Finding section below for discussion on Distinct Population Segments) with endangered status and that critical habitat be designated.

The petition contains a detailed description of the species' natural history and status, including information on distribution and movements, population structure, behavior, population status and trends, and factors contributing to the current status of the species in the western North Atlantic Ocean. The petitioners assert that the western North Atlantic loggerhead is discrete from loggerhead populations found elsewhere due to physical, genetic, physiological, ecological, and behavioral factors, and they provide information they believe supports this assertion. The petitioners further assert that the western North Atlantic loggerhead population is both biologically and ecologically significant relative to the species. The petitioners maintain that the western North Atlantic loggerhead nesting population has undergone a marked decline in recent decades, and cite coastal development, bycatch in fisheries, marine pollution, and global warming as primary threats to the population. The petitioners provide information on the western North Atlantic loggerhead relative to the ESA section 4(a)(1) factors and assert that the western North Atlantic loggerhead population warrants an endangered listing.

Finally, the petitioners request that, if the western North Atlantic loggerhead is not determined to meet the DPS criteria, loggerheads throughout the Atlantic Ocean be designated as a DPS and listed as endangered.

Petition Finding

Based on the above information and criteria specified in 50 CFR 424.14(b)(2), we find the petitioners present substantial scientific and commercial information indicating that a reclassification of the loggerhead in the western North Atlantic Ocean as a DPS and listing of that DPS as endangered may be warranted. The ESA defines a “species” as ”...any subspecies of fish or wildlife or plants and any distinct population segment of any species of vertebrate fish or wildlife which interbreeds when mature.” NMFS and the U.S. Fish and Wildlife Service (the Services) published a joint policy defining the phrase “distinct population segment” on February 7, 1996 (61 FR 4722). Two elements are considered in a decision on whether a population segment qualifies as a DPS under the ESA: discreteness of the population segment in relation to the remainder of the species and significance of the population segment to the species. If a population segment qualifies as a DPS, the conservation status of that DPS is evaluated to determine whether it is threatened or endangered. Under section 4(b)(3) of the ESA, an affirmative 90-day finding requires that we commence a status review on the loggerhead turtle. The Services recently completed a 5-year review of the loggerhead turtle, as required under section 4(c)(2) of the ESA (NMFS and U.S. Fish and Wildlife Service, 2007). This review recommended that a full status review of the loggerhead be conducted in accordance with the DPS policy. We have initiated this review, and, once it has been completed, we will make a finding on whether reclassification of the loggerhead in the western North Atlantic Ocean as endangered is warranted, warranted but precluded by higher priority listing actions, or not warranted, as required by section 4(b)(3)(B) of the ESA. The review will also consider whether any additional changes to the current globally threatened listing for the loggerhead are warranted.

There is no critical habitat designated for the loggerhead turtle. The ESA currently requires us to make a critical habitat determination concurrent with listing determinations. The ESA defines “critical habitat” as

”...the specific areas within the geographical area occupied by the species, at the time it is listed... on which are found those physical or biological features (I) essential to the conservation of the species and (II) which may require special management considerations or protection; and... specific areas outside the geographical area occupied by the species at the time it is listed... upon a determination by the Secretary that such areas are essential for the conservation of the species.”

Section 4(a)(1) Factors and Basis for Determination

Under section 4(a)(1) of the ESA and the implementing regulations at 50 CFR 424.11(c), a species shall be reclassified if the Secretary of Commerce or the Secretary of the Interior, as appropriate, determines, based on the best scientific and commercial data available after conducting a review of the species' status, that the species is threatened or endangered because of any of the following factors: (1) Present or threatened destruction, modification, or curtailment of its habitat or range; (2) overutilization for commercial, recreational, scientific, or educational purposes; (3) disease or predation; (4) inadequacy of existing regulatory mechanisms; or (5) other natural or manmade factors affecting its continued existence.

Information Solicited

To ensure that the status review is complete and based on the best available data, we solicit information and comments on whether loggerhead turtles in the western North Atlantic Ocean, or any other area, qualify as a DPS and, if so, whether it should be classified as threatened or endangered. Specifically, we are soliciting information in the following areas relative to loggerheads in the western North Atlantic and elsewhere: (1) Historical and current population status and trends; (2) historical and current distribution; (3) migratory movements and behavior; (4) genetic population structure; (5) current or planned activities that may adversely impact loggerheads; and (6) ongoing efforts to protect loggerheads.

We also request information on areas within U.S. jurisdiction that may qualify as critical habitat for loggerhead turtles, both in the western North Atlantic Ocean and elsewhere within the species' range. Areas that include the physical and biological features essential to the conservation of the species that may require special management considerations or protection should be identified. Areas outside the present range should also be identified if such areas are essential to the conservation of the species. Essential features include, but are not limited to: (1) space for individual growth and for normal behavior; (2) food, water, air, light, minerals, or other nutritional or physiological requirements; (3) cover or shelter; (4) sites for reproduction and development of offspring; and (5) habitats that are protected from disturbance or are representative of the historical, geographical and ecological distributions of the species (50 CFR 424.12).

We request that all data, information, and comments be accompanied by supporting documentation such as maps, bibliographic references, or reprints of pertinent publications. All submissions should contain the submitter's name, address, and any association, institution, or business that the person represents. Comments and materials received will be available for public inspection, by appointment, during normal business hours at the above address (see ADDRESSES).

Peer Review

For listings, delistings, and reclassifications under the ESA, the Services issued a joint policy for peer review of the scientific data (59 FR 34270, July 1, 1994). On January 14, 2005, the Office of Management and Budget (OMB) published its Final Information Quality Bulletin for Peer Review (70 FR 2664). The intent of the peer review policy and the OMB Information Quality Bulletin for Peer Review is to ensure that listings are based on the best scientific and commercial data available. We are soliciting the names of recognized experts in the field that could serve as peer reviewers for the loggerhead status review. Independent peer reviewers will be selected from the academic and scientific community, applicable tribal and other Native American groups, Federal and state agencies, the private sector, and public interest groups.

References Cited

National Marine Fisheries Service and U.S. Fish and Wildlife Service. 2007. Loggerhead sea turtles (Caretta caretta) 5-year review: summary and evaluation. 65 pp.

Authority: 16 U.S.C. 1531 et seq.

Dated: February 28, 2008.
Samuel D. Rauch, III,
Deputy Assistant Secretary for Regulatory Programs, National Marine Fisheries Service.

[FR Doc. E8-4231 Filed 3-4-08; 8:45 am]

BILLING CODE 3510-22-S